ENVIRONMENTAL PROTECTION AGENCY

[FRL-9828-4]

Public Water System Supervision Program Approval for the State of Illinois

AGENCY: Environmental Protection Agency (EPA).

ACTION: Notice of tentative approval.

SUMMARY: Notice is hereby given that the State of Illinois is revising its approved public water system supervision program for the Ground Water Rule, the Arsenic Rule and the new Public Water System Definition. EPA has determined that these revisions are no less stringent than the corresponding federal regulation. Therefore, EPA intends to approve these revisions to the State of Illinois's public water system supervision program, thereby giving Illinois EPA primary enforcement responsibility for these regulations. Illinois EPA's revised Ground Water Rule became effective on July 27, 2007 and the revised Arsenic Rule was adopted on February 21, 2002. The new Public Water System Definition was adopted by the State on December 1, 1999.

Any interested person may request a public hearing. A request for a public hearing must be submitted by July 29, 2013, to the Regional Administrator at the EPA Region 5 address shown below. The Regional Administrator may deny frivolous or insubstantial requests for a hearing. However, if a substantial request for a public hearing is made by July 29, 2013, EPA Region 5 will hold a public hearing, and a notice of such hearing will be given in the Federal Register and a newspaper of general circulation. If EPA Region 5 does not receive a timely and appropriate request for a hearing and the Regional Administrator does not elect to hold a hearing on her own motion, this determination shall become final and effective on July 29, 2013. Any request for a public hearing shall include the following information: the name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Illinois Environmental Protection Agency, 1021 North Grand Avenue, Springfield, Illinois 62794-9276, and/or the U.S. Environmental Protection Agency, Region 5, Ground Water and Drinking Water Branch (WG-15J), 77 West Jackson Boulevard, Chicago, Illinois 60604, between the hours of 9 a.m. and 4 p.m., Monday through Friday.

FOR FURTHER INFORMATION CONTACT: Michele Palmer, EPA Region 5, Ground Water and Drinking Water Branch, at the address given above, by telephone, at (312) 353-3646, or at palmer.michele@epa.gov.

Authority: (Section 1413 of the Safe Drinking Water Act, as amended, 42 U.S.C. 300g-2 and 40 CFR part 142 of the National Primary Drinking Water Regulations).

Dated: June 13, 2013.
Susan Hedman,
Regional Administrator, Region 5.

[FR Doc. 2013-15441 Filed 6-26-13; 8:45 am]

BILLING CODE 6560-50-P